Title 3—

The President

Proclamation 7448 of June 7, 2001

Asiatic Fleet Memorial Day

By the President of the United States of America

A Proclamation

All of America's service personnel and veterans deserve our gratitude, and it is fitting to pay tribute to the United States Asiatic Fleet.

The United States Navy's presence in the Far East dates to 1822. The Asiatic Fleet was formed in 1902, reestablished in 1910, and continued to serve into 1942. Through years of unrest and disturbance, the Fleet protected American lives and interests along the China coast and the Yangtze River, bearing responsibilities that were as much diplomatic as Naval. The Fleet also assisted civilian areas devastated by the forces of nature and by internal warfare.

When the attack on Pearl Harbor thrust the United States into World War II, the Asiatic Fleet played a key role in the defense of the Philippines. Outnumbered and outgunned at sea and in the air, the Fleet was joined by ships of the British, Dutch, and Australian navies to oppose the Japanese advance through what is now Indonesia. The Fleet's destroyers hit the Japanese at Balikpapan and Badung Strait, and the cruiser Marblehead fought her way through massive air attacks off Bali while submarines, short of fuel and torpedoes, struck Japanese supply lines.

The battle for the “Malay Barrier” reached its climax in the Java Sea. In the opening hours of March 1, 1942, the American cruiser Houston and the Australian cruiser Perth, outnumbered and outgunned by the Japanese, fought to the last in the Sunda Strait. They went down with their guns still firing and were followed hours later by the British cruiser Exeter. The remaining Allied ships were then ordered to make their way to Australia.

The Asiatic Fleet was no more, but its heritage of courage and selfless dedication helped spur our Navy to victory in World War II. Since then, the Seventh Fleet has carried on the Asiatic Fleet's duties, earning honor in Korea and Vietnam and helping to preserve peace and stability in East Asia. The men and women of our Naval services who saw the Cold War to a peaceful conclusion and won victory in Operation Desert Storm are worthy descendants of the sailors and Marines who earned glory in the Java Sea. As we pay tribute to the memory of the Asiatic Fleet, I call on all Americans to join me in saluting its proud heritage of bravery and honor.

The Congress, by Public Law 105-261, on October 17, 1998, has authorized and requested the President to issue a proclamation in commemoration of the United States Navy Asiatic Fleet.

NOW, THEREFORE, I, GEORGE W. BUSH, President of the Untied States of America, by virtue of the authority vested in me by the Constitution and laws of the United States, do hereby proclaim Friday, March 1, 2002, as U.S. Navy Asiatic Fleet Memorial Day. I call upon all Americans to observe this day with appropriate ceremonies, activities, and programs.

IN WITNESS WHEREOF, I have hereunto set my hand this seventh day of June, in the year of our Lord two thousand one, and of the Independence of the United States of America the two hundred and twenty-fifth.

B

[FR Doc. 01-14861

Filed 6-8-01; 10:54 am]

Billing code 3195-01-P